DEPARTMENT OF THE INTERIOR

National Park Service

[NPS-WASO-NAGPRA-14569; PPWOCRADN0-PCU00RP14.R50000]

Notice of Inventory Completion: California State University, Fullerton, CA

AGENCY: National Park Service, Interior.

ACTION: Notice.

SUMMARY: The California State University, Fullerton, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the California State University, Fullerton. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the California State University, Fullerton, at the address in this notice by February 18, 2014.

ADDRESSES: Dr. Mitchell Avila, California State University, Fullerton, P.O. Box 6850, Fullerton, CA 92834-6850, telephone (657) 278-3528, email mavila@Exchange.FULLERTON.EDU.

SUPPLEMENTARY INFORMATION: Notice is here given in accordance with the Native American Graves Protection and Repatriation Act (NAGPRA), 25 U.S.C. 3003, of the completion of an inventory of human remains and associated funerary objects under the control of the California State University, Fullerton. The human remains and associated funerary objects were removed from Inyo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the California State University, Fullerton, professional staff in consultation with representatives of Big Pine Paiute Tribe of the Owens Valley (previously listed as the Big Pine Band of Owens Valley Paiute Shoshone Indians of the Big Pine Reservation, California); Bishop Paiute Tribe (previously listed as the Paiute-Shoshone Indians of the Bishop Community of the Bishop Colony, California); Death Valley Timbi-sha Shoshone Tribe (previously listed as the Death Valley Timbi-Sha Shoshone Band of California); Fort Independence Indian Community of Paiute Indians of the Fort Independence Reservation, California; Lone Pine Paiute-Shoshone Tribe (previously listed as the Paiute-Shoshone Indians of the Lone Pine Community of the Lone Pine Reservation, California); and the Kern Valley Indian Council, a non-Federally recognized Indian group.

History and Description of the Remains

In 1966, human remains representing, at minimum, one individual were removed from an undesignated site in Inyo County, CA. The human remains were reportedly excavated and collected from a small cave in the vicinity of Fossil Falls in the Little Lake lava flow by Mr. W. Riffle, Mr. M. Purkiss, and two other, unnamed, individuals. The excavation and collection was not archeological. The exact burial site location is unidentifiable, but was most probably private land. The human remains were reportedly in Purkiss' possession until he donated the remains to California State University, Fullerton, in 1973. The human remains are a partial skeleton, including cranial and a few post-cranial bones, of a female, age 20-30, with significant teeth wear. No known individuals were identified. The three associated funerary objects are three small pottery fragments.

The Little Lake lava flow contains numerous archeological sites and petroglyphs which archeological investigations have identified as prehistoric in age. The three pottery fragments are archeologically consistent with the late prehistoric Intermountain Brownware pottery of the region. During consultation, Ms. Irene Button, Tribal Elder, Lone Pine Paiute-Shoshone Tribe, suggested that the pottery fragments may have been placed to cover the face of the deceased. The skeletal morphology is osteologically consistent with that of Native Americans. The teeth wear is anthropologically consistent with habitual practice of the traditional Paiute and Shoshone method of preparing plant material for basket weaving by mastication. The burial site is located within the traditional territory of the Lone Pine Paiute-Shoshone Tribe (previously listed as the Paiute-Shoshone Indians of the Lone Pine Community of the Lone Pine Reservation, California) whose members are, based on oral tradition, historic, and ethnographic evidence, descendants of the prehistoric Owens Valley Paiute and Western Shoshone population of the burial site area.

Determinations Made by the California State University, Fullerton

Officials of the California State University, Fullerton, have determined that:

• Pursuant to 25 U.S.C. 3001(9), the human remains described in this notice represent the physical remains of one individual of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Lone Pine Paiute-Shoshone Tribe (previously listed as the Paiute-Shoshone Indians of the Lone Pine Community of the Lone Pine Reservation, California).

Additional Requestors and Disposition

Lineal descendants or representatives of any Indian tribe or Native Hawaiian organization not identified in this notice that wish to request transfer of control of these human remains and associated funerary objects should submit a written request with information in support of the request to Dr. Mitchell Avila, California State University, Fullerton, P.O. Box 6850, Fullerton, CA 92834-6850, telephone (657) 278-3528, email mavila@Exchange.FULLERTON.EDU, by February 18, 2014. After that date, if no additional requestors have come forward, transfer of control of the human remains and associated funerary objects to the Lone Pine Paiute-Shoshone Tribe (previously listed as the Paiute-Shoshone Indians of the Lone Pine Community of the Lone Pine Reservation, California) may proceed.

The California State University, Fullerton, is responsible for notifying the Big Pine Paiute Tribe of the Owens Valley (previously listed as the Big Pine Band of Owens Valley Paiute Shoshone Indians of the Big Pine Reservation, California); Bishop Paiute Tribe (previously listed as the Paiute-Shoshone Indians of the Bishop Community of the Bishop Colony, California); Death Valley Timbi-sha Shoshone Tribe (previously listed as the Death Valley Timbi-Sha Shoshone Band of California); Fort Independence Indian Community of Paiute Indians of the Fort Independence Reservation, California; Lone Pine Paiute-Shoshone Tribe (previously listed as the Paiute-Shoshone Indians of the Lone Pine Community of the Lone Pine Reservation, California); and the Kern Valley Indian Council, a non-Federally recognized Indian group that this notice has been published.

Dated: November 25, 2013.
David Tarler,
Acting Manager, National NAGPRA Program.

[FR Doc. 2014-00750 Filed 1-15-14; 8:45 am]

BILLING CODE 4312-50-P